DEPARTMENT OF ENERGY

Federal Energy Regulatory Commission

[Docket No. EC01-156-003, et al.]

TRANSLink Development Company, LLC, et al.; Electric Rate and Corporate Filings

February 24, 2003.

The following filings have been made with the Commission. The filings are listed in ascending order within each docket classification.

1. TRANSLink Development Company, LLC

[Docket Nos. EC01-156-003, ER01-3154-003 and ER03-83-002]

Take notice that on February 19, 2003, TRANSLink Development Company, LLC (TRANSLink) tendered for filing with the Federal Energy Regulatory Commission (Commission), for its review and approval, a compliance filing in the aforementioned dockets.

The compliance filing responds to Commission Orders regarding the rates and terms of service that TRANSLink will provide to customers after joining the Midwest ISO as an independent transmission company, thereby expanding the scope of the Midwest ISO regional transmission organization to include the transmission systems of the TRANSLink Participants, including both jurisdictional utilities and municipal and cooperative public power systems.

TRANSLink states that this compliance filing has been served on the parties for the service lists in Docket Nos. EC01-156, ER01-3154, and ER03-83, to the state regulatory authorities in each of the states in which any of the jurisdictional TRANSLink Participants provides electric service to consumers or operates transmission facilities, and to all customers taking service under an open transmission tariff of one of the TRANSLink Participants that will be superseded by the TRANSLink Rate Schedule.

Comment Date: March 12, 2003.

2. PJM Interconnection, L.L.C.

[Docket No. ER03-85-001]

Take notice that on February 19, 2003, PJM Interconnection, L.L.C. (PJM), submitted for filing Original Sheet No. 96GGGG to PJM's Open Access Transmission Tariff, Fifth Revised Volume No. 1. PJM states that it submits this revised tariff sheet to comply with the Commission's order of December 12, 2002 in this proceeding. PJM proposes to make the subject tariff sheet effective on November 1, 2002, consistent with the effective date of the remainder of PJM's tariff revisions accepted in this docket and subject to the outcome of the Commission's final rule in Docket No. RM02-1-000.

PJM states that copies of this filing were served upon the official service list for Docket Nos. ER02-1333 and ER03-85, all members of PJM, and the state electric utility regulatory commissions within the PJM region.

Comment Date: March 12, 2003.

3. Midwest Independent Transmission System Operator, Inc.

[Docket No. ER03-86-002]

Take notice that on February 19, 2003, the Midwest Independent Transmission System Operator, Inc. (Midwest ISO) tendered for filing proposed revisions to certain provisions of the Midwest ISO Open Access Transmission Tariff (OATT), FERC Electric Tariff, Second Revised Volume No. 1, in compliance with the Commission's December 19, 2002, Order in this docket. The Midwest ISO has requested an effective date of February 20, 2003.

The Midwest ISO states that it has served a copy of this filing electronically upon all Midwest ISO Members, Member representatives of Transmission Owners and Non-Transmission Owners, the Midwest ISO Advisory Committee participants, Policy Subcommittee participants, as well as all state commissions within the region. In addition, the filing has been posted electronically on the Midwest ISO's Web site at www.midwestiso.org under the heading “Filings to FERC” for other interested parties in this matter. The Midwest ISO will provide hard copies to any interested parties upon request.

Comment Date: March 12, 2003.

4. Unitil Energy Systems, Inc.

[Docket No. ER03-140-001]

Take notice that on February 20, 2003, Unitil Energy Systems, Inc., submitted a corrected Table of Contents to the Open Access Transmission Tariff dated November 1, 2002.

Comment Date: March 13, 2003.

5. Entergy Mississippi, Inc.

[Docket No. ER03-171-002]

Take notice that on February 19, 2003, Entergy Mississippi, Inc., (Entergy) tendered for filing with the Federal Energy Regulatory Commission (Commission) pursuant to the Commission's order issued January 31, 2003, 102 FERC 61,105, directing Entergy to file an agreement for the lease of Silver Creek Substation ( the lease agreement) or submit an explanation identifying why such a filing is not necessary. Entergy submitted its explanation as to why the submittal of the lease agreement is not required by either section 203 or section 205 of the Federal Power Act.

Comment Date: March 12, 2003.

6. Ameren Services Company

[Docket No. ER03-460-001]

Take notice that on February 19, 2003, Ameren Services Company (ASC) tendered for filing an unexecuted Service Agreement for Firm Point-to-Point Service between ASC and Cinergy Services, Inc. ASC asserts that the purpose of the Agreement is to permit ASC to provide transmission service to Cinergy Services, Inc. pursuant to Ameren's Open Access Transmission Tariff.

Comment Date: March 12, 2003.

7. Ameren Services Company

[Docket No. ER03-491-001]

Take notice that on February 19, 2003, Ameren Services Company (ASC) tendered for filing an unexecuted Service Agreement for Firm Point-to-Point Service between ASC and Westar Energy, Inc. ASC asserts that the purpose of the Agreement is to permit ASC to provide transmission service to Westar Energy, Inc. pursuant to Ameren's Open Access Transmission Tariff.

Comment Date: March 12, 2003.

8. Public Service Company of New Mexico

[Docket No. ER03-542-000]

Take notice that on February 19, 2003, Public Service Company of New Mexico (PNM) tendered for filing a Revised Funding Agreement (designated as First Revised Service Agreement No. 198 under PNM Electric Tariff, Second Revised Volume No. 4) that modifies certain provisions of the original Funding Agreement for the design, engineering and construction services associated with the facilities necessary to interconnect the FPL Energy New Mexico Wind, LLC (FPLE) proposed 204 MW name plate capacity wind farm generation project in eastern New Mexico to PNM's transmission system.

PNM states that copies of the filing have been sent to FPLE, the New Mexico Public Regulation Commission, and the New Mexico Attorney General.

Comment Date: March 12, 2003.

9. Wisconsin Electric Power Company

[Docket No. ER03-543-000]

Take notice that on February 19, 2003, Wisconsin Electric Power Company (Wisconsin Electric) filed with the Federal Energy Regulatory Commission (Commission), a notice of cancellation of First Revised Service Agreement No. 25 under FERC Electric Tariff, Third Revised Volume No. 1. Wisconsin Electric is requesting the cancellation be effective June 1, 2003.

Wisconsin Electric states that copies of the filing have been served on Badger Power Marketing Authority of Wisconsin, Inc., and the Public Service Commission of Wisconsin.

Comment Date: March 12, 2003.

10. Southern Company Services, Inc.

[Docket No. ER03-544-000]

Take notice that on February 19, 2003, Southern Company Services, Inc. (SCS), acting on behalf of itself, Alabama Power Company, and Mississippi Power Company, filed a notice of termination notifying the Commission that the Long-Term Transmission Service Agreement between Entergy Power, Inc. and Alabama Power Company, Mississippi Power Company, and Southern Company Services, Inc., designated SCSI Rate Schedule No. 78, effective on April 27, 1992, and filed with the Federal Energy Regulatory Commission by Southern Company Services, Inc., terminated by its own terms.

Comment Date: March 12, 2003.

11. PacifiCorp

[Docket No. ER03-545-000]

Take notice that on February 20, 2003, PacifiCorp tendered for filing with the Federal Energy Regulatory Commission (Commission), unexecuted Umbrella Service Agreements with Conoco Inc., J. Aron & Company, Reliant Energy, Portland General Electric, Pinnacle West, Sempra Energy Trading Corp., UBS Warburg Energy and Williams Energy Marketing & Trading Company under PacifiCorp's market based rate tariff, FERC Electric Tariff, Third Revised Volume No. 12.

PacifiCorp states that copies of this filing were supplied to the Utah Public Service Commission and the Public Utility Commission of Oregon.

Comment Date: March 13, 2003.

12. Public Service Electric and Gas Company, and PSEG Energy Resources & Trade LLC

[Docket No. ER03-546-000]

Take notice that on February 20, 2003, Public Service Electric and Gas Company (PSE&G) and PSEG Energy Resources & Trade LLC (PSEG ER&T), filed with the Federal Energy Regulatory Commission (Commission) a request for waiver of the Commission's rules and their market-based rate tariffs and codes of affiliate conduct to the extent necessary to permit PSEG ER&T to participate in the auction for Basic Generation Service (BGS), as approved by the New Jersey Board of Public Utilities, and provide BGS within the service territory of its affiliate PSE&G.

Comment Date: March 13, 2003.

13. Southwest Power Pool, Inc.

[Docket No. ER03-547-000]

Take notice that on February 20, 2003, Southwest Power Pool, Inc. (SPP) submitted for filing an executed agreement between SPP and the SPP Transmission Owners that addresses the relief of capacity restraints at the LaCygne to Stillwell 345 kV Transmission Line (the Circuit). SPP seeks an effective date of February 21, 2003, for this agreement and seeks waiver of the requirements of section 35.13(c)-(h) of the Commission regulations.

The SPP Transmission Owners were served with a copy of this filing.

Comment Date: March 13, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-4948 Filed 2-28-03; 8:45 am]

BILLING CODE 6717-01-P